OFFICE OF MANAGEMENT AND BUDGET

Office of Federal Procurement Policy

48 CFR Part 9903

Cost Accounting Standards Board; Applicability of Cost Accounting Standards Coverage

AGENCY: Cost Accounting Standards Board, Office of Federal Procurement Policy, OMB.

ACTION: Interim rule with request for comment.

SUMMARY: The Cost Accounting Standards (CAS) Board is revising the criteria applicable to United Kingdom (UK) contractors for filing a Disclosure Statement, Form No. CASB DS-1. This rulemaking is authorized pursuant to section 26 of the Office of Federal Procurement Policy Act. The Board is promulgating this interim rule in order to comply with a specific request by the UK Ministry of Defence to simplify the compliance process with CAS Board disclosure requirements for UK contractors.

DATES: Effective Date: This rule is effective May 23, 2005.

Comment Date: Comments upon this interim rule must be in writing and must be received by July 22, 2005.

ADDRESSES: Comments should be addressed to Dr. Rein Abel, Director of Research, Cost Accounting Standards Board, Office of Federal Procurement Policy, 725 17th Street, NW., Room 9013, Washington, DC 20503. Comments should be faxed to Rein Abel, at 202-395-5105.

FOR FURTHER INFORMATION CONTACT: Rein Abel, Director of Research, Cost Accounting Standards Board (telephone: 202-395-3254).

SUPPLEMENTARY INFORMATION:

A. Background

Unlike certain other foreign contractors (e.g., German and Canadian), UK contractors currently have to file a regular CAS Board Disclosure Statement (DS-1) in accordance with CAS regulations. The UK Ministry of Defence initially approached the Board with a request to use the corresponding UK form “Questionnaire on Method of Allocation of Costs” (QMAC), in lieu of the DS-1. After a review of the content of the QMAC, the UK and U.S. representatives agreed that it did not have the same scope as the DS-1. Therefore, it was agreed that to cover the gap in the coverage a “Supplemental QMAC” was needed.

The CAS Board has approved a Supplemental QMAC that is acceptable to the UK Ministry of Defence, and the CAS Board has received a request from the UK Ministry of Defence to allow UK contractors to submit their basic QMAC, together with the Supplemental QMAC, in lieu of the DS-1. At its meeting on February 23, 2005, the Board agreed to this change in the CAS requirements so that UK contractors with CAS-covered contracts will be allowed to file the UK QMAC together with its Supplement in lieu of the DS-1 required of U.S. contractors.

The Board believes that an interim rule with request for comment is an appropriate mode for the promulgation of this rule. It is based on a request by the UK Ministry of Defense for a specific action regarding the CAS disclosure statement to be used by the UK defense contractors. The Board believes that its response to this request as incorporated in this rule is straight forward and, in essence, non controversial. Therefore, the Board believes that in this instance the Board's usual “four step” promulgation process is not necessary or appropriate.

To effect this change, the interim rule includes the following revisions:

(1) The deletion of 9903.201-1(b)(12) (all foreign contractors, including UK contractors, are subject to the requirements at 9903.201-1(b)(4));

(2) The deletion of 9903.201-4(d); and

(3) An amendment to 9903.202-1(e) to add the U.K. to the list of the countries whose contractors may file a disclosure form adopted by an agency of their own Government in lieu of the DS-1.

B. Paperwork Reduction Act

The Paperwork Reduction Act, Public Law 96-511, does not apply to this rulemaking, because this rule imposes no paperwork burden on offerors, affected contractors and subcontractors, or members of the public which require the approval of OMB under 44 U.S.C. 3501, et seq.

C. Executive Order 12866 and the Regulatory Flexibility Act

The economic impact of this rule on contractors and subcontractors is expected to be minor. As a result, the Board has determined that this interim rule will not result in the promulgation of a “major rule” under the provisions of Executive Order 12866, and that a regulatory impact analysis will not be required. Furthermore, this rule will not have a significant impact on a substantial number of small businesses because small businesses are exempt from the application of the Cost Accounting Standards. Therefore, this rule does not require a regulatory flexibility analysis under the Regulatory Flexibility Act of 1980.

D. Public Comments

Interested persons are invited to participate by submitting data, views or arguments with respect to this interim rule. All comments must be in writing and submitted to the address indicated in the ADDRESSES section.

List of Subjects in 48 CFR Part 9903

Accounting, Government procurement.

David H. Safavian,
Chair, Cost Accounting Standards Board.

For the reasons set forth in this preamble, chapter 99 of title 48 of the Code of Federal Regulations is amended as set forth below:

PART 9903—CONTRACT COVERAGE

Subpart 9903.2—CAS Program Requirements

9903.201-1 [Amended]

1. Section 9903.201-1 is amended by removing and reserving paragraph (b)(12).

9903.201-4 [Amended]

2. Section 9903.201-4 is amended by removing and reserving paragraph (d).

3. Section 9903.202-1 is amended by revising paragraph (e) to read as follows:

9903.202-1 General requirements.

* * * * *

(e) Foreign contractors and subcontractors who are required to submit a Disclosure Statement may, in lieu of filing a Form No CASB-DS-1, make disclosure by using a disclosure form prescribed by an agency of its Government, provided that the Cost Accounting Standards Board determines that the information disclosed by that means will satisfy the objectives of Public Law 100-679. The use of alternative forms has been approved for the contractors of the following countries:

(1) Canada.

(2) Federal Republic of Germany.

(3) United Kingdom.

* * * * *

[FR Doc. 05-9847 Filed 5-20-05; 8:45 am]

BILLING CODE 3110-01-P